DEPARTMENT OF JUSTICE

Antitrust Division

Notice Pursuant to the National Cooperative Research and Production Act of 1993—Cooperative Research Group on Clean Diesel V

Correction

In notice document E8-17042 appearing on page 43952 in the issue of Tuesday, July 29, 2008, make the following correction:

On page 43952, in the first column, in the first paragraph, in the fifth line from the bottom, “EASF” should read “BASF”.

[FR Doc. Z8-17042 Filed 8-21-08; 8:45 am]

BILLING CODE 1505-01-D